COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds service(s) to the Procurement List that will be furnished by nonprofit agencies employing persons who are blind or have other severe disabilities, and deletes product(s) and service(s) from the Procurement List previously furnished by such agencies.

DATES: Date added to and deleted from the Procurement List: March 12, 2023.

ADDRESSES: Committee for Purchase From People Who Are Blind or Severely Disabled, 355 E Street SW, Suite 325, Washington, DC 20024.

FOR FURTHER INFORMATION CONTACT: Michael R. Jurkowski, Telephone: (703) 785-6404 or email CMTEFedReg@AbilityOne.gov.

SUPPLEMENTARY INFORMATION:

Additions

On 10/28/2022, the Committee for Purchase From People Who Are Blind or Severely Disabled published notice of proposed additions to the Procurement List. This notice is published pursuant to 41 U.S.C. 8503(a)(2) and 41 CFR 51-2.3.

After consideration of the material presented to it concerning capability of qualified nonprofit agencies to provide the service(s) and impact of the additions on the current or most recent contractors, the Committee has determined that the product(s) and service(s) listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the product(s) and service(s) to the Government.

2. The action will result in authorizing small entities to furnish the product(s) and service(s) to the Government.

3. There are no known regulatory alternatives which would accomplish the objectives of the Javits-Wagner-O'Day Act (41 U.S.C. 8501-8506) in connection with the product(s) and service(s) proposed for addition to the Procurement List.

End of Certification

Accordingly, the following service(s) are added to the Procurement List:

Service(s)

Service Type: Contractor Operated Parts Store

Mandatory for: Sierra Army Depot, Herlong, CA

Designated Source of Supply: South Texas Lighthouse for the Blind, Corpus Christi, TX

Contracting Activity: DEPT OF THE ARMY, W6QK SIAD CONTR OFF

The Committee finds good cause to dispense with the 30-day delay in the effective date normally required by the Administrative Procedure Act. See 5 U.S.C. 553(d). This addition to the Committee's Procurement List is effectuated because of the expiration of the Department of the Army, Sierra Army Depot contract. The Federal customer contacted and has worked diligently with the AbilityOne Program to fulfill this service need under the AbilityOne Program. To avoid performance disruption, and the possibility that the Department of the Army will refer its business elsewhere, this addition must be effective on February 21, 2023, ensuring timely execution for a February 21, 2023 start date while still allowing 11 days for comment. The Committee also published a notice of proposed Procurement List addition in the Federal Register on October 28, 2022 and did not receive any comments from any interested persons. This addition will not create a public hardship and has limited effect on the public at large, but, rather, will create new jobs for other affected parties—people with significant disabilities in the AbilityOne program who otherwise face challenges locating employment. Moreover, this addition will enable Federal customer operations to continue without interruption.

Deletions

On 11/10/20 and 12/9/20, the Committee for Purchase From People Who Are Blind or Severely Disabled published notice of proposed deletions from the Procurement List. This notice is published pursuant to 41 U.S.C. 8503(a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) and service(s) are deleted from the Procurement List:

Product(s)

NSN(s)—Product Name(s):

7520-00-139-4869—File, Horizontal Desk, 12″ × 8½″ × 15″, 6 Shelf, Beige

7520-00-728-5761—File, Horizontal Desk, 12″ × 8½″ × 15″, 6 Shelf, Gray

7520-01-445-0733—File, Horizontal Desk, 12″ × 8½″ × 17⅛″, 7 Shelf, Beige

7520-01-445-0735—File, Horizontal Desk, 12″ × 8½″ × 12½″, 5 Shelf, Beige

7520-01-445-0736—File, Horizontal Desk, 12″ × 8½″ × 19⅝″, 8 Shelf, Beige

7520-01-445-0739—File, Horizontal Desk, 12″ × 8½″ × 7⅛″, 3 Shelf, Beige

7520-01-445-0741—File, Horizontal Desk, 12″ × 8½″ × 10″ 4 Shelf, Beige

7520-01-452-1558—File, Vertical Desk, 8″ × 11″ × 14¼″, 8 Shelf, Black

7520-01-452-1562—File, Vertical Desk, 8″ × 11″ × 14¼″, 8 Shelf, Beige

7520-01-452-1563—File, Combination Desk, 7¾″ × 14″ × 11″, Beige

7520-01-452-1564—File, Combination Desk, 7¾″ × 14″ × 11″, Black

Contracting Activity: GSA/FAS ADMIN SVCS ACQUISITION BR(2, NEW YORK, NY

NSN(s)—Product Name(s):

8415-01-364-3320—Suit, Contamination Avoidance Suit, Hooded Poncho and Trousers, Army, Green, S

8415-01-364-3321—Suit, Contamination Avoidance Suit, Hooded Poncho and Trousers, Army, Green, M/L

8415-01-364-3322—Suit, Contamination Avoidance Suit, Hooded Poncho and Trousers, Army, Green, XL/XXL

Designated Source of Supply: ORC Industries, Inc., La Crosse, WI

Contracting Activity: DLA TROOP SUPPORT, PHILADELPHIA, PA

Service(s)

Service Type: Mattress & Box Spring Rehabilitation

Designated Source of Supply: Mississippi Industries for the Blind, Jackson, MS

Contracting Activity: GENERAL SERVICES ADMINISTRATION, FPDS AGENCY COORDINATOR

Service Type: Document Assembly

Mandatory for: USDA Forest Service, Northern Research Station,1992 Folwell Avenue, Saint Paul, MN

Designated Source of Supply: AccessAbility, Inc., Minneapolis, MN

Contracting Activity: FOREST SERVICE, USDA FOREST SERVICE

Service Type: Custodial & Pest Control Services

Mandatory for: US Navy, Naval Operations Support Center, 3623 Carolina Beach Rd., Wilmington, NC

Designated Source of Supply: OE Enterprises, Inc., Hillsborough, NC

Contracting Activity: DEPT OF THE NAVY, NAVAL FAC ENGINEERING CMD MID LANT

Michael R. Jurkowski,
Acting Director, Business Operations.

[FR Doc. 2023-02878 Filed 2-9-23; 8:45 am]

BILLING CODE 6353-01-P